DEPARTMENT OF THE INTERIOR

Fish and Wildlife Service

[FWS-R1-ES-2010-N092; 10120-1113-0000-F5]

Endangered Wildlife and Plants; Permits

AGENCY: Fish and Wildlife Service, Interior.

ACTION: Notice of availability of permit applications; request for comments.

SUMMARY: In accordance with the requirements of the Endangered Species Act of 1973, as amended (Act), we, the U.S. Fish and Wildlife Service (Service), invite the public to comment on applications for permits to conduct enhancement of survival activities with endangered species.

DATES: To ensure consideration, please send your written comments by June 21, 2010.

ADDRESSES: Program Manager, Endangered Species, Ecological Services, U.S. Fish and Wildlife Service, 911 NE 11th Avenue, Portland, OR 97232-4181.

FOR FURTHER INFORMATION CONTACT: Linda Belluomini, Fish and Wildlife Biologist, at the above address or by telephone (503-231-6131) or fax (503-231-6243).

SUPPLEMENTARY INFORMATION: The following applicants have applied for recovery permits to conduct certain activities with endangered species under section 10(a)(1)(A) of the Act (16 U.S.C. 1531 et seq.). We are soliciting review of and comments on these applications by local, State, and Federal agencies and the public.

Permit No. TE-08913A

Applicant: Greg S. Fitzpatrick, Corvallis, Oregon.

The applicant requests a permit to take (pursue and capture) the Fender's blue butterfly (Icaricia icarioides fenderi) in conjunction with surveys throughout its range in Oregon for the purpose of enhancing its survival.

Permit No. TE-08964A

Applicant: Dana Ross, Corvallis, Oregon.

The applicant requests a permit to take (pursue and capture) the Fender's blue butterfly (Icaricia icarioides fenderi) in conjunction with surveys throughout its range in Oregon for the purpose of enhancing its survival.

Public Comments

We are soliciting public review and comment on these recovery permit applications. Before including your address, phone number, e-mail address, or other personal identifying information in your comment, you should be aware that your entire comment—including your personal identifying information—may be made publicly available at any time. While you can ask us in your comment to withhold your personal identifying information from public review, we cannot guarantee that we will be able to do so.

Please refer to the permit number for the application when submitting comments. All comments and materials we receive in response to this request will be available for public inspection, by appointment, during normal business hours at the above address.

Dated: May 10, 2010.
Carolyn A Bohan,
Acting Regional Director, Region 1, U.S. Fish and Wildlife Service.

[FR Doc. 2010-12029 Filed 5-19-10; 8:45 am]

BILLING CODE 4310-55-P